SURFACE TRANSPORTATION BOARD

[Docket No. AB 303 (Sub-No. 49X)]

Wisconsin Central Ltd.—Discontinuance of Service Exemption—in Oneida and Marinette Counties, Wis.

AGENCY: Surface Transportation Board.

ACTION: Correction to notice of exemption.

On October 16, 2017, notice of the above exemption was served and published in the Federal Register (82 FR 48,146). The exemption is effective on November 15, 2017. On October 27, 2017, a correction was filed with the Board advising that the reference to “Waupaca County, Wis.” should have been a reference to “Oneida County, Wis.” This notice corrects the name of the county. All other information in the notice is correct.

Board decisions and notices are available on our Web site at “WWW.STB.GOV.”

Decided: November 9, 2017.
By the Board, Scott M. Zimmerman, Acting Director, Office of Proceedings.
Jeffrey Herzig,
Clearance Clerk.

[FR Doc. 2017-24724 Filed 11-14-17; 8:45 am]

BILLING CODE 4915-01-P